NUCLEAR REGULATORY COMMISSION

[Docket No. 72-11]

Sacramento Municipal Utility District; Notice of Issuance of Materials License SNM-2510, Rancho Seco Independent Spent Fuel Storage Installation

The U.S. Nuclear Regulatory Commission (NRC or the Commission) has issued a Materials License under the provisions of Title 10 of the Code of Federal Regulations, Part 72 (10 CFR Part 72), to the Sacramento Municipal Utility District (SMUD), authorizing receipt and storage of spent fuel into an independent spent fuel storage installation (ISFSI) located on site at its Rancho Seco Nuclear Generating Station in Sacramento County, California.

The function of the ISFSI is to provide interim storage in a dry cask storage system for up to 228.8 metric tons of uranium contained in intact and damaged fuel assemblies and associated control components from the prior operation of the Rancho Seco Nuclear Generating Station. The dry cask storage system that is authorized for use is a Rancho Seco site-specific model of the NUHOMS-24P storage system designed by Transnuclear West Inc. The license for an ISFSI under 10 CFR Part 72 is issued for 20 years, but the licensee may seek to renew the license, if necessary, prior to its expiration.

The Commission's Office of Nuclear Material Safety and Safeguards (NMSS) has completed its environmental, safeguards, and safety reviews in support of issuance of this license.

Following receipt of the application filed October 4, 1991, a “Notice of Consideration of Issuance of Materials License for the Storage of Spent Fuel and Opportunity for Hearing” was published in the Federal Register on January 13, 1992 (57 FR 1286). The “Environmental Assessment (EA) Related to the Construction and Operation of the Rancho Seco Nuclear Generating Station Independent Spent Fuel Storage Installation and Finding of No Significant Impact,” was issued and noticed in the Federal Register (59 FR 41797, August 15, 1994) in accordance with 10 CFR Part 51. The scope of the EA included the construction and operation of an ISFSI on the Rancho Seco Nuclear Generating Station site including impacts derived from use of the NUHOMS-24P storage system.

The staff has completed its safety review of the Rancho Seco ISFSI site application and safety analysis report. The NRC staff's “Safety Evaluation Report for the Rancho Seco Independent Spent Fuel Storage Installation,” was issued on June 30, 2000. Materials License SNM-2510, the staff's Environmental Assessment, Safety Evaluation Report, and other documents related to this action are available electronically for public inspection at the NRC Public Document Room, the Gelman Building, 2120 L Street, NW., Washington, DC 20555, or from the Publicly Available Records (PARS) component of NRC's document system (ADAMS). ADAMS is accessible from the NRC Web site at http://www.nrc.gov/NRC/ADAMS/index.html (the Public Electronic Reading Room).

Dated at Rockville, Maryland, this 30th day of June 2000.
For the Nuclear Regulatory Commission.
E. William Brach,
Director, Spent Fuel Project Office, Office of Nuclear Material Safety and Safeguards.

[FR Doc. 00-17767 Filed 7-12-00; 8:45 am]

BILLING CODE 7590-01-P